DEPARTMENT OF TRANSPORTATION

Federal Aviation Administration

Pubic Notice for Waiver of Aeronautical Land-Use Assurance; Detroit Metropolitan Wayne County Airport, Detroit, MI

AGENCY: Federal Aviation Administration, DOT.

ACTION: Notice of intent of waiver with respect to land.

SUMMARY: The Federal Aviation Administration (FAA) is considering a proposal to change a portion of the Detroit Metropolitan Wayne County Airport (DTW) from aeronautical use to non-aeronautical use and to authorize the sale of the airport property. The proposal consists of the sale of vacant, unimproved land owned by the Wayne County Airport Authority (WCAA).

The WCAA has requested from FAA a “Release from Federal agreement obligated land covenants” to sell portions of six (6) parcels. The property proposed for release was acquired by the WCAA and FAA Project Numbers: 3-26-0026-1991, 3-26-0026-2292, 3-26-0026-3695, 3-0026-4197, and 3-26-0026-4398.

There are no impacts to the airport by allowing the WCAA to dispose of the vacant property. Approval does not constitute a commitment by the FAA to financially assist in the disposal of the airport property nor a determination of eligibility for grant-in-aid funding from the FAA. The disposition of proceeds from the disposal of the airport property will be in accordance FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before September 20, 2006.

FOR FURTHER INFORMATION CONTACT: Mr. David J. Welhouse, Project Manager, Detroit Airports District Office, 11677 South Wayne Road, Suite 107, Romulus, Michigan 48174. Telephone Number (734) 229-2952/FAX Number (734) 229-2950. Documents reflecting this FAA action may be reviewed at this same location or at Detroit Metropolitan Wayne County Airport, Detroit, Michigan.

SUPPLEMENTARY INFORMATION: Following is a legal description of the property (portions of Parcels 63 (A&B), 64, 65, 66, 67, and 71) located in Romulus, Wayne County, Michigan, and described as follows:

Description of That Portion of Parcel 63-A Being Released

Part of the Southwest ¼ of Section 16, T. 3 S., R. 9 E., City of Romulus, Wayne County, Michigan and being more particularly described as follows: Commencing at the Southwest corner of Section 16, T. 3. S., R. 9 E., and running thence South 89 degrees 48 minutes 20 seconds East, along the South line of said Section 16, a distance of 390.64 feet to a point; thence North 00 degrees 10 minutes 20 seconds East, a distance of 439.59 feet to a point on the Westerly Right-Of-Way Line for relocated Vining Road (width varies), said point being the point of beginning of the parcel of land herein being described; proceeding thence from said point of beginning South 30 degrees 29 minutes 17 seconds West, along said right of way line, a distance of 213.94 feet to a point; North 00 degrees 10 minutes 20 seconds East, a distance of 654.13 feet to a point on the center line of the Sexton Kilfoil Drain; thence South 76 degrees 26 minutes 59 seconds East, along the center line of said Sexton Kilfoil Drain, a measured distance of 111.00 feet (described 111.50 feet) to a point; thence South 00 degrees 10 minutes 20 seconds West a distance of 443.76 feet to the point of beginning. Containing 1.361 acres, more or less, of land in area.

Description of That Portion of Parcel 63-B Being Released

Part of the South ¼ of Section 16, T. 3 S., R. 9 E., City of Romulus, Wayne County, Michigan and being more particularly described as follows: Commencing at the Southwest corner of Section 16, T. 3 S., R. 9 E., and running thence South 89 degrees 48 minutes 20 seconds East, along the South line of said Section 16, a distance of 260.00 feet to a point; thence North 00 degrees 10 minutes 20 seconds East, a measured distance of 216.11 feet (described 218.66 feet) to a point on the Westerly Right-Of-Way line for relocated Vining Road (120 feet wide), said point being the point of beginning of the parcel of land herein being described; proceeding thence from said pont of beginning North 00 degrees 10 minutes 20 seconds East, a measured distance of 1655.43 feet (described 1656.77 feet) to a point on the Southerly line of the Norfolk and Western Railroad Right-Of-Way (100 feet wide); thence North 73 degrees 24 minutes 30 seconds East, along the Southerly line of said Norfolk and Western Railroad Right-Of-Way, a distance of 136.44 feet to a point; thence South 00 degrees 10 minutes 20 seconds West a distance of 1027.60 feet to a point on the center line of the Sexton Kilfoil Drain; thence North 76 degrees 26 minutes 59 seconds West, along the center line of said Sexton Kilfoil Drain, a measured distance of 111.00 feet (described 111.50 feet) to a point; thence South 00 degrees 10 minutes 20 seconds West a distance of 654.13 feet to a point on said Westerly Right-Of-Way Line for relocated Vining Road; thence South 30 degrees 29 minutes 17 seconds West, along said right of way line, a distance of 44.87 feet to the point of beginning. Containing 3.344 acres, more or less, of land in area.

Description of That Portion of Parcel 64 Being Released

Part of the Southwest ¼ of Section 16, T. 3 S., R. 9 E., City of Romulus, Wayne County, Michigan and being more particularly described as follows: Commencing at the Southwest corner of Section 16, T. 3 S., R. 9 E., and running thence South 89 degrees 48 minutes 20 seconds East, along the South line of said Section 16, a distance of 390.64 feet to a point; thence North 00 degrees 10 minutes 20 seconds East, a distance of 439.59 feet to a point on the Westerly Right-of-Way Line for relocated Vining Road (width varies), said point being the point of beginning of the parcel of land herein being described; proceeding thence from said point of beginning North 00 degrees 10 minutes 20 seconds East, a distance of 1471.36 feet to a point on the Southerly line of the Norfolk and Western Railroad Right-of-Way (100 feet wide); thence North 73 degrees 20 minutes 30 seconds East, along the Southerly line of said Norfolk and Western Railroad Right-of-Way, a distance of 171.28 feet to a point; thence South 00 degrees 10 minutes 20 seconds West a distance of 1240.29 feet to a point on said Westerly Right-of-Way Line for relocated Vining Road; thence South 30 degrees 29 minutes 17 seconds West, along said right of way line, a distance of 324.90 feet to the point of beginning. Containing 5.105 acres, more or less, of land in area.

Description of That Portion of Parcel 65 Being Released

Part of the Southwest ¼ of Section 16, T. 3 S., R. 9 E., City of Romulus, Wayne County, Michigan and being more particularly described as follows: Commencing at the Southwest corner of Section 16, T. 3 S., R. 9 E., and running thence South 89 degrees 48 minutes 20 seconds East, along the South line of said Section 16, a distance of 826.05 feet to a point; thence North 00 degrees 10 minutes 20 seconds East, a distance of 1275.17 feet to a point on the Westerly Right-of-Way Line for relocated Vining Road (width varies), said point being the point of beginning of the parcel of land herein being described; proceeding thence from said point of beginning thence South 25 degrees 54 minutes 51 seconds West, along said right of way line, a distance of 574.08 feet to an angle point is said right-of-way line; thence South 30 degrees 29 minutes 17 seconds West, containing along said right of way line, a distance of 43.82 feet to a point; thence North 00 degrees 10 minutes 20 seconds East, a distance of 1240.29 feet to a point on the Southerly line of the Norfolk and Western Railroad Right-of-Way (100 feet wide); thence North 73 degrees 24 minutes 30 seconds East, along the Southerly line of said Norfolk and Western Railroad Right-of-Way, a distance of 283.50 feet to a point; thence South 00 degrees 10 minutes 20 seconds West a distance of 767.12 feet to the point of beginning. Containing 6.278 acres, more or less, of land in area.

Description of That Portion of Parcel 66 (West ½) Being Released

Part of the Southwest ¼ of Section 16, T. 3 S., R. 9 E., City of Romulus, Wayne County, Michigan and being more particularly described as follows: Commencing at the Southwest corner of Section 16, T. 3 S., R. 9 E., and running thence South 89 degrees 48 minutes 20 seconds East, along the South line of said Section 16, a distance of 826.05 feet to a point; thence North 00 degrees 10 minutes 20 seconds East, a distance of 1275.17 feet to a point on the Westerly Right-of-Way Line for relocated Vining road (width varies), said point being the point of beginning of the parcel of land herein being described; proceeding thence from said point of beginning North 00 degrees 10 minutes 20 seconds East, a distance of 767.12 feet to a point on the Southerly line of the Norfolk and Western Railroad Right-of-Way (100 feet wide); thence North 73 degrees 24 minutes 30 seconds East, along the Southerly line of said Norfolk and Western Railroad Right-of-Way, a distance of 139.32 feet to a point; thence South 00 degrees 10 minutes 20 seconds West a distance of 530.64 feet to a point on said Westerly Right-of-Way Line for relocated Vining Road; thence South 25 degrees 54 minutes 51 seconds West, along said right of way line, a distance of 307.15 feet to the point of beginning. Containing 1.987 acres, more or less, of land in area.

Description of That Portion of Parcel 66 (East ½) Being Released

Part of the Southwest ¼ of Section 16, T. 3 S., R. 9 E., City of Romulus, Wayne County, Michigan and being more particularly described as follows: Commencing at the Southwest corner of Section 16, T. 3 S., R. 9 E., and running thence South 89 degrees 48 minutes 20 seconds East, along the South line of said Section 16, a distance of 1092.89 feet to a point; thence North 00 degrees 10 minutes 20 seconds East, a distance of 1828.61 feet to a point on the Westerly Right-of-Way Line for relocated Vining Road (width varies), said point being the point of beginning of the parcel of land herein being described; proceeding thence from said point of beginning South 25 degrees 54 minutes 51 seconds West, along said right of way line, a distance of 307.15 feet to a point; thence North 00 degrees 10 minutes 20 seconds East, a distance of 530.64 feet to a point on the Southerly line of the Norfolk and Western Railroad Right-of-Way (100 feet wide); thence North 73 degrees 24 minutes 30 seconds East, along the Southerly line of said Norfolk and Western Railroad Right-of-Way, a distance of 139.32 feet to a point; thence South 00 degrees 10 minutes 20 seconds West a distance of 294.16 feet to the point of beginning. Containing 1.263 acres, more or less, of land in the area.

Description of That Portion of Parcel 67 Being Released

Part of the Southwest ¼ of Section 16, T. 3 S., R. 9 E., City of Romulus, Wayne County, Michigan and being more particularly described as follows: Commencing at the Southwest corner of Section 16, T. 3 S, R. 9 E., and running thence South 89 degrees 48 minutes 20 seconds East, along the South line of said Section 16, a distance of 1092.89 feet to a point; thence North 00 degrees 10 minutes 20 seconds East, a distance of 1828.61 feet to a point on the Westerly Right-of-Way Line for relocated Vining Road (width varies), said point being the point of beginning of the parcel of land herein being described; proceeding thence from said point of beginning North 00 degrees 10 minutes 20 seconds East, a distance of 294.16 feet to a point on the Southerly line of the Norfolk and Western Railroad Right-of-Way (100 feet wide); thence North 73 degrees 24 minutes 30 seconds East, along the Southerly line of said Norfolk and Western Railroad Right-of-Way, a distance of 195.67 feet to the point of intersection of said railroad right-of-way line with the Westerly Right-of-Way Line for said relocated Vining Road, said point being distance South 00 degrees 03 minutes 34 seconds West, a measured distance of 105.88 feet (recorded as 104.83 feet), as measured along the East line of said Section 16 and South 73 degrees 24 minutes 30 seconds West a distance of 1361.68 feet, as measured along the Southerly line of said Norfolk and Western Railroad Right-of-Way from the East ¼ corner of said Section 16; thence South 30 degrees 29 minutes 17 seconds West, along said Westerly Right-of-Way Line for relocated Vining Road, a distance of 206.82 feet to an angle point in said line; thence South 25 degrees 54 minutes 51 seconds West, continuing along said right of way line, a distance of 191.01 feet to the point of beginning. Containing 0.596 acres, more or less, of land in area.

Issued in Romulus, Michigan, on July 28, 2006.
Irene R. Porter,
Manager, Detroit Airports District Office, FAA, Great Lakes Region.

[FR Doc. 06-7060 Filed 8-18-06; 8:45 am]

BILLING CODE 4910-13-M